DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection in support of the program for the 1890 Land Grant Institutions Rural Entrepreneurial Outreach and Development Initiative Program.

DATES: Comments on this notice must be received by June 25, 2012 to be considered.

FOR FURTHER INFORMATION CONTACT: Natalie Melton, Program Management Specialist, Rural Development, USDA, STOP 3250, Room 4217, 1400 Independence Avenue SW., Washington, DC 20250-3250. Telephone: (202) 690-1371, email: Natalie.melton@wdc.usda.gov.

SUPPLEMENTARY INFORMATION: Title: 1890 Land Grant Institutions Rural Entrepreneurial Outreach and Development Initiative Program.

OMB Number: 0570-0041.

Expiration Date of Approval: July 31, 2012.

Type of Request: Extension of a currently approved information collection.

Abstract: The collection of this information will allow the Agency to determine the eligibility of the applicants; determine the specific purpose for which the funds will be utilized; determine the timeframes or dates by which activities surrounding the use of funds will be accomplished; determine the feasibility of the project; and to evaluate applicants' experience in managing similar activities.

Without the collection of this information, there would be no basis on which to award funds.

Estimate of Burden: Public reporting burden for this collection is estimated to average 2.5 hours per response.

Respondents: Only 1890 Land Grant Institutions of Higher Education and Tuskegee University.

Estimated Number of Respondents: 18.

Estimated Number of Responses per Respondent: 17.

Estimated Number of Responses: 297.

Estimated Total Annual Burden on Respondents: 728 hours.

Copies of this information collected can be obtained from Jeanne Jacobs, Regulations and Paperwork Management Branch: (202) 692-0040.

Comments are invited on: (a) Whether the proposed collection of information is necessary for the proper performance of the functions of Rural Development, including whether the information will have practical utility; (b) the accuracy of Rural Development's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to Jeanne Jacobs, Regulations and Paperwork Management Branch, Rural Development, U.S. Department of Agriculture, STOP 0742, 1400 Independence Avenue SW., Washington, DC 20250-0742. All responses to this notice will be summarized and included in the request for OMB approval. All comments will become a matter of public record.

Dated: April 18, 2012.
Judith A. Canales,
Administrator, Rural Business-Cooperative Service.

[FR Doc. 2012-9975 Filed 4-24-12; 8:45 am]

BILLING CODE 3410-XY-P